DEPARTMENT OF HEALTH AND HUMAN SERVICES

National Institutes of Health

Center for Scientific Review; Amended Notice of Meeting

Notice is hereby given of a change in the meeting of the Center for Scientific Review Special Emphasis Panel; Member Conflict: Radiation Therapeutics and Biology, June 14, 2019, 12:00 p.m. to June 14, 2019, 3:00 p.m., which was published in the Federal Register on May 28, 2019, Vol. 84, FR page 24528.

The meeting location is being changed to National Institutes of Health, 6701 Rockledge Drive, Bethesda, MD 20892. Meeting dates remain the same. The meeting is closed to the public.

Dated: June 5, 2019.
Sylvia L. Neal,
Program Analyst, Office of Federal Advisory Committee Policy.

[FR Doc. 2019-12227 Filed 6-10-19; 8:45 am]

BILLING CODE 4140-01-P